DEPARTMENT OF ENERGY

Federal Energy Regulatory Commission

[Docket No. CP24-516-000]

Florida Gas Transmission Company, LLC; Notice of Staff Protest to Proposed Blanket Certificate Activity

Federal Energy Regulatory Commission (FERC or Commission) staff (Protestor) hereby protests the prior notice request filed under the provisions of the Commission's regulations at Part 157, subpart F, by Florida Gas Transmission Company, LLC (FGT), on August 30, 2024, in the above referenced docket. Pursuant to its Part 157, subpart F, blanket certificate authority, FGT proposes to: (1) complete minor auxiliary facility modifications at its existing Compressor Station 13 in Washington County, Florida; (2) construct 2.57 miles of 12-inch-diameter lateral loop pipeline in Putnam County, Florida; (3) modify the existing Palatka—CertainTeed Gypsum Meter and Regulation Station in Putnam County, Florida; and (4) construct appurtenant facilities under section 2.55(a) of the Commission's regulations (Palatka Project). Protestor seeks to have this prior notice request processed as a case-specific application filed under section 7(c) of the Natural Gas Act (NGA) and Part 157, subpart A, of the Commission's regulations.¹

¹ Section 157.205(f) provides that a protested prior notice filing shall be treated as though it had filed a case-specific application under NGA section 7, unless, pursuant to section 157.205(g), the protestor withdraws its protest within 30 days after protests were due.

Protestor notes that FGT did not provide a copy of a finding by the Florida State Historic Preservation Office of “no historic properties” or “no historic properties effected.” This documentation is necessary to demonstrate the Project's compliance with the National Historic Preservation Act, as required under the Commission's regulations at section 157.208(c)(9) and appendix II of subpart F. Without this documentation, the environmental concerns cannot be adequately addressed before the protest period expires on November 8, 2024.

Dated: November 7, 2024.
Debbie-Anne A. Reese,
Secretary.

[FR Doc. 2024-26488 Filed 11-13-24; 8:45 am]

BILLING CODE 6717-01-P